DEPARTMENT OF HEALTH AND HUMAN SERVICES

Health Resources and Services Administration

National Advisory Council on Migrant Health; Notice of Meeting

In accordance with section 10(a)(2) of the Federal Advisory Committee Act (Pub. L. 92-463), notice is hereby given of the following meeting:

Name: National Advisory Council on Migrant Health.

Dates and Times: January 14, 2004, 9 a.m. to 5 p.m., January 15, 2004, 9 a.m. to 5 p.m.

Place: Hyatt Regency Bethesda, One Metro Center, Bethesda, Maryland 20814, Phone: (301) 657-1234; Fax: (301) 657-6453.

Status: The meeting will be open to the public.

Agenda: The agenda includes an overview of general Council business activities and priorities. Topics to be addressed will include orientation of new Council members and restructuring subcommittees. In addition, the Council will continue working on the Year 2004 recommendations to the Secretary. Finally, the Council will hear presentations from experts on farmworker issues, including Farmworker Health Services on farmworker health outreach and enabling services, and prevention strategies.

Agenda items are subject to change as priorities indicate.

For Further Information Contact: Anyone requiring information regarding the Council should contact Gladys Cate, Office of Minority and Special Populations, staff support to the National Advisory Council on Migrant Health, Bureau of Primary Health Care, Health Resources and Services Administration, 4350 East-West Highway, Bethesda, Maryland 20814, Telephone (301) 594-0367.

Dated: December 11, 2003.
Tina M. Cheatham,
Acting Director, Division of Policy Review and Coordination.

[FR Doc. 03-31249 Filed 12-18-03; 8:45 am]

BILLING CODE 4165-15-P